DEPARTMENT OF LABOR

Employment and Training Administration Proposed Disposal and Reuse of Excess Property; Joliet Job Corps Center, Joliet, IL

ACTION: Final finding of no significant impact, Joliet Job Corps Center proposed disposal and reuse of excess property, located at 1101 Mills Road, Joliet, Illinois.

SUMMARY: Pursuant to the Council on Environmental Quality Regulations implementing procedural provisions of the National Environmental Policy Act (NEPA), the Department of Labor, ETA, gives final notice of the proposed disposal and reuse of a 25-acre area of excess property at the Joliet Job Corps Center, and that this project will not have a significant adverse impact on the environment.

DATES: These findings are applicable as of April 8, 2020.

ADDRESSES: For further information contact Delilah LumHo, Department of Labor, 200 Constitution Avenue NW, Room N-4460, Washington, DC 20210; Telephone (202) 693-8010 (this is not a toll free number).

SUPPLEMENTARY INFORMATION: A public notice of availability of the draft environmental assessment (EA) was published in the Herald-News serving Joliet and Will County, Illinois, on December 3, 2019. The review period extended for 15 days, ending on December 18, 2019. No public comments were received. No changes to the findings of the EA have been made.

Implementation of the proposed action alternative will not have significant impacts on the human environment. The determination is sustained by the analysis in the EA, agency consultation, the inclusion and consideration of public review, and the capability of mitigations to reduce or avoid impacts. Any adverse environmental effects that could occur are no more than moderate in intensity, duration, and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

John Pallasch,
Assistant Secretary for Employment and Training.

[FR Doc. 2020-07114 Filed 4-7-20; 8:45 am]

BILLING CODE 4510-FN-P